MILLENNIUM CHALLENGE CORPORATION

[MCC FR 12-12]

Notice of the December 19, 2012, Millennium Challenge Corporation Board of Directors Meeting; Sunshine Act Meeting

AGENCY: Millennium Challenge Corporation.

TIME AND DATE: 10:00 a.m. to 12:00 p.m., Wednesday, December 19, 2012.

PLACE: Department of State, 2201 C Street NW., Washington, DC 20520.

FOR FURTHER INFORMATION CONTACT: Information on the meeting may be obtained from Melvin F. Williams, Jr., Vice President, General Counsel and Corporate Secretary via email at Corporatesecretary@mcc.gov or by telephone at (202) 521-3600.

STATUS: Meeting will be closed to the public.

MATTERS TO BE CONSIDERED: The Board of Directors (the “Board”) of the Millennium Challenge Corporation (“MCC”) will hold a meeting to discuss the 2013 Selection Process. The agenda items are expected to involve the consideration of classified information and the meeting will be closed to the public.

Dated: December 17, 2012.
Melvin F. Williams, Jr.,
VP/General Counsel and Corporate Secretary, Millennium Challenge Corporation.

[FR Doc. 2012-30705 Filed 12-17-12; 4:15 pm]

BILLING CODE 9211-03-P